DEPARTMENT OF HEALTH AND HUMAN SERVICES

Centers for Disease Control and Prevention

[60Day-03-64]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Evaluation Of Educational Materials Promoting Informed Decision-Making About Prostate Cancer Screening—New—National Center for Chronic Disease Prevention and Health Promotion (NCCDPHP), Centers for Disease Control and Prevention (CDC).

Prostate cancer is the second most commonly diagnosed cancer among men in the United States. An estimated 220,900 new cases of prostate cancer will be diagnosed, and 28,900 men will die from the disease in 2003. The effectiveness of prostate cancer screening has not been established. A number of clinical guidelines recommend that the potential risks and benefits of prostate cancer screening be explained to patients so that they may make an informed decision about screening. The purpose of this project is to evaluate the effectiveness of an informed-decision making booklet about prostate cancer screening developed by CDC.

The proposed study will consist of 3 tasks. In Task 1, the reliability and validity of a measurement instrument assessing prostate cancer knowledge and related variables will be tested. Two hundred men of all races aged 50 to 70 years and 200 African-American men aged 40 to 70 years will read the CDC booklet and complete the measurement instrument. In Task 2, 250 primary care physicians will complete a survey measuring their prostate cancer screening practices. The survey will be administered once and then again several months later. In Task 3, 600 men aged 50-70 years will take part in a randomized controlled trial. Men in the intervention group will be asked to read the CDC booklet and complete the measurement instrument tested in Task 1, and men in the control group will complete the measurement instrument without reading the CDC booklet. There is no cost to respondent except for their time.

Respondents | Number of respondents | Number of responses per respondent | Average burden per response (in hours) | Total burden (in hours)
Men, all races aged 50-70 years (validation study) | 200 | 1 | 90/60 | 300
African-American men aged 40-70 years (validation study) | 200 | 1 | 90/60 | 300
Primary care physicians | 250 | 2 | 15/60 | 125
Men, all races aged 50-70 years (intervention group) | 300 | 1 | 90/60 | 450
Men, all races aged 50-70 years (control group) | 300 | 1 | 1 | 300
Total |  |  |  | 1,475

Dated: April 29, 2003.
Thomas Bartenfeld,
Acting Associate Director for Policy, Planning and Evaluation, Centers for Disease Control and Prevention.

[FR Doc. 03-10977 Filed 5-2-03; 8:45 am]

BILLING CODE 4163-18-P